DEPARTMENT OF DEFENSE

Defense Intelligence Agency

[DOD-2006-OS-0115]

Privacy Act of 1974; Systems of Records

AGENCY: Defense Intelligence Agency, DoD.

ACTION: Notice to amend a system of records.

SUMMARY: The Defense Intelligence Agency is amending a system of records notice to its existing inventory of record systems subject to the Privacy Act of 1974 (5 U.S.C. 552a), as amended.

DATES: This proposed action will be effective without further notice on July 5, 2006 unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: May 26, 2006.
C.R. Choate,
Alternate OSD Federal Register Liaison Officer, Department of Defense.

LDIA 0900

System Name:

Accounts Receivable, Indebtedness and Claims (February 22, 1993, 58 FR 10613).

Changes:

* * * * *

System Location:

Delete “0001” and replace with: “5100”.

* * * * *

Storage:

Delete entry and replace with: “Paper records in file folders and electronic database on classified system.”

* * * * *

Safeguards:

Delete entry and replace with: “Records are accessible only to authorized personnel who are properly screened, cleared and trained in the protection of privacy information. Records are stored in locked cabinets when not in use. Electronic records are maintained on a classified and password protected system.”

* * * * *

System Manager(s) and Address:

Delete entry and replace with: “Comptroller, Defense Intelligence Agency, ATTN: FE-2E, Washington DC 20340-5100.”

Notification Procedure:

Delete entry and replace with: “Individuals seeking to determine whether information about themselves is contained in this system of records should address written inquiries to the Freedom of Information Act Office (DAN-1A/FOIA) Defense Intelligence Agency, 200 MacDill Blvd., Washington, DC 20340-5100.

Individuals should provide their full name, current address, telephone number and Social Security Number.”

Record Access Procedures:

Delete entry and replace with: “Individuals seeking access to information about themselves contained in this system of records should address written inquiries to the Freedom of Information Act Office (DAN-1A/FOIA), Defense Intelligence Agency, 200 MacDill Blvd., Washington DC 20340-5100.

Individual should provide their full name, current address, telephone number and Social Security Number.”

Contesting Record Procedures:

Delete entry and replace with: “DIA's rules for accessing records, for contesting contents and appealing initial agency determinations are published in DIA Regulation 12-12 ‘Defense Intelligence Agency Privacy Program’; 32 CFR part 319—Defense Intelligence Agency Privacy Program; or may be obtained from the system manager.”

* * * * *

LDIA 0900

System name:

Accounts Receivable, Indebtedness and Claims.

System location:

Defense Intelligence Agency, Washington, DC 20340-5100

Categories of individuals covered by the system:

Current and former active duty military personnel, current and former civilian employees, Reserve and National Guard personnel, dependents of employees and military personnel exchange officers and other individuals who may be indebted to the Defense Intelligence Agency or another Government agency or have a claim pending against the Defense Intelligence Agency.

Categories of records in the system:

Records maintained in this system include but are not limited to documentation pertaining to telephone bills; dishonored checks; reports of survey; erroneous payments; property losses and damages; administratively determined indebtedness; losses of funds; records of travel payments, travel orders, travel vouchers, statements of nonavailability of quarters and mess, paid receipts, and certifications of payment; delinquent accounts receivable from other Federal agencies including returned checks, medical service billings and collection records; summaries of reports from investigative activities such as the military investigative services, the U.S. Secret Service of the Federal Bureau of Investigation, reports from probate courts and bankruptcy courts; credit reports, promissory notes; individual financial statements; correspondence from and to the debtor or claimant; applications for waiver of erroneous payments or for remission of indebtedness with support documentation; claims of individuals requesting additional payments with supporting documentation such as time and attendance records and leave and earning statements.

Authority for maintenance of the system:

5 U.S.C. 5512; 5 U.S.C. 5513; 5 U.S.C. 5514; 5 U.S.C. 5584; 5 U.S.C. 5705; 10 U.S.C. 2274; 10 U.S.C. 22761; 31 U.S.C. 3322; 31 U.S.C. 3527; 31 U.S.C. 3702; 31 U.S.C. 3711; 31 U.S.C. 3716; 31 U.S.C. 3717; 31 U.S.C. 3718; 37 U.S.C. 1007; 40 U.S.C. 721-729.

Purpose(s):

Information is collected to determine eligibility for waiver of erroneous payments or additional payments for service rendered. Information is also used to support customer billings and collection of claims of the United States for money or property arising out of the activities of the Defense Intelligence Agency or other Federal agencies. Information from this system may be disclosed to credit bureaus and credit reporting activities, the Comptroller General and the General Accounting Office, the Defense Investigative Service, the Internal Revenue Service, the Federal Bureau of Investigation, U.S. Secret Service, state and local law enforcement authorities, trustees in bankruptcy and probate courts and other Federal agencies (for possible collection by offset). Disclosures may also be made to the Department of Justice for criminal prosecution, civil litigation, or investigation.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” set forth at the beginning of the DIA's compilation of systems of records notices apply to this system.

Policies and practices for storing, retrieving, accessing, retaining, and disposing of records in the system:

Storage:

Paper records in file folders and electronic database on classified system.

Retrievability:

Alphabetically by surname of individual.

Safeguards:

Records are accessible only to authorized personnel who are properly screened, cleared and trained in the protection of privacy information. Records are stored in locked cabinets when not in use. Electronic records are maintained on a classified and password protected system.

Retention and disposal:

Records are retained in office files through the fiscal year following the fiscal year in which final action was taken on the accounts receivable, indebtedness or claim. Records are then transferred to the Washington National Records Center where they are retained for up to 9 years and then destroyed.

System manager(s) and address:

Comptroller, Defense Intelligence Agency, ATTN: FE-2E, Washington, DC 20340-5100.

Notification procedure:

Individuals seeking to determine whether information about themselves is contained in this system of records should address written inquiries to the Freedom of Information Act Office (DAN-1A/FOIA), Defense Intelligence Agency, 200 MacDill Blvd., Washington, DC 20340-5100.

Individual should provide their full name, current address, telephone number and Social Security Number.

Record access procedures:

Individuals seeking access to information about themselves contained in this system of records should address written inquiries to the Freedom of Information Act Office (DAN-1A/FOIA), Defense Intelligence Agency, 200 MacDill Blvd., Washington, DC 20340-5100.

Individual should provide their full name, current address, telephone number and Social Security Number.

Contesting record procedures:

DIA's rules for accessing records, for contesting contents and appealing initial agency determinations are published in DIA Regulation 12-12 “Defense Intelligence Agency Privacy Program”; 32 CFR part 319—Defense Intelligence Agency Privacy Program; or may be obtained from the system manager.

Record source categories:

Information is obtained from DoD and other Federal financial records systems; financial, educational and medical institutions; automated system interfaces; police and investigative officers; state bureaus of motor vehicles; Internal Revenue Service; Social Security Administration; Department of Veterans Affairs; the Office of Personnel Management and commercial credit reporting agencies.

Exemptions claimed for the system:

None.

[FR Doc. 06-5090 Filed 6-2-06; 8:45 am]

BILLING CODE 5001-06-M